DEPARTMENT OF TRANSPORTATION

Office of the Secretary

Aviation Proceedings, Agreements Filed the Week Ending March 23, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-27664.

Date Filed: March 20, 2007.

Parties: Members of the International Air Transport Association.

Subject:

TC12 North Atlantic-Africa except between USA and Reunion Resolutions and Specified Fares Tables (Memo 0252).

Intended effective date: 1 May 2007.

Docket Number: OST-2007-27666.

Date Filed: March 20, 2007.

Parties: Members of the International Air Transport Association.

Subject:

TC12 Mid Atlantic-Africa Resolutions and Specified Fares Tables (Memo 0253).

Intended effective date: 1 May 2007.

Docket Number: OST-2007-27667.

Date Filed: March 20, 2007.

Parties: Members of the International Air Transport Association.

Subject:

TC12 South Atlantic-Africa Resolutions and Specified Fares Tables (Memo 0254).

Intended effective date: 1 May 2007.

Docket Number: OST-2007-27671.

Date Filed: March 20, 2007.

Parties: Members of the International Air Transport Association.

Subject:

TC2 Europe-Africa Resolutions and Specified Fares Tables (Memo 0246).

Intended effective date: 1 May 2007.

Docket Number: OST-2007-27673.

Date Filed: March 20, 2007.

Parties: Members of the International Air Transport Association.

Subject:

TC2 Middle East-Africa Resolutions and Specified Fares Tables (Memo 0153).

Intended effective date: 1 May 2007.

Docket Number: OST-2007-27674.

Date Filed: March 20, 2007.

Parties: Members of the International Air Transport Association.

Subject:

TC2 Within Africa Resolutions and Specified Fares Tables (Memo 0174).

Intended effective date: 1 May 2007.

Renee V. Wright,
Program Manager, Docket Operations, Federal Register Liaison.

[FR Doc. E7-6266 Filed 4-3-07; 8:45 am]

BILLING CODE 4910-9X-P